DEPARTMENT OF AGRICULTURE

Forest Service

Amador County Resource Advisory Committee

AGENCY: Forest Service, USDA.

ACTION: Notice of meeting.

SUMMARY: The Amador County Resource Advisory Committee will meet in Jackson, California. The committee is meeting as authorized under the Secure Rural Schools and Community Self-Determination Act (Pub. L 110-343) and in compliance with the Federal Advisory Committee Act. The purpose of the meeting is to develop committee operating guidelines, discuss guidelines for submitting projects, and set the dates for the next meetings.

DATES: The meeting will be held on June 9, 2010 at 6 p.m.

ADDRESSES: The meeting will be held at 10877 Conductor Blvd., Sutter Creek, CA, June 9, 2010, 6 p.m.

Written comments should be sent to Frank Mosbacher; Forest Supervisor's Office; 100 Forni Road; Placerville, CA 95667. Comments may also be sent via e-mail to fmosbacher@fs.fed.us, or via facsimile to 530-621-5297.

All comments, including names and addresses when provided, are placed in the record and are available for public inspection and copying. The public may inspect comments received at 100 Forni Road, Placerville, CA 95667. Visitors are encouraged to call ahead to 530-622-5061 to facilitate entry into the building.

FOR FURTHER INFORMATION CONTACT: Frank Mosbacher, Public Affairs Officer, Eldorado National Forest Supervisors Office, (530) 621-5268.

Individuals who use Telecommunication Devices for the Deaf (TDD) may call the Federal Information Relay Service (FIRS) at 1-800-877-8339 between 8 a.m. and 8 p.m., Eastern Standard Time, Monday through Friday.

SUPPLEMENTARY INFORMATION: The meeting is open to the public. The following business will be conducted: At that meeting, the RAC will work on the operating guidelines for the committee and start discussing guidelines for submitting project proposal. The committee will also set future meeting dates. More information will be posted on the Eldorado National Forest Web site at www.fs.fed.us/r5/eldorado. A public comment opportunity will be made available following the business activity. Future meetings will have a formal public input period for those following the yet to-be-developed public input process.

Dated: May 14, 2010.
Duane A. Nelson,
Acting Forest Supervisor.

[FR Doc. 2010-12277 Filed 5-21-10; 8:45 am]

BILLING CODE 3410-11-M